POSTAL SERVICE

39 CFR Part 111

Claims Filing Date for Insured Mail

AGENCY: Postal Service.

ACTION: Final rule.

SUMMARY: The Postal Service is amending the Mailing Standards of the United States Postal Service, Domestic Mail Manual (DMM®) subsection 609.1.4 to change the claims filing date for insured mail.

DATES: Effective Date: January 18, 2026.

FOR FURTHER INFORMATION CONTACT: Abdul Bah at (314) 452-2844 or Garry Rodriguez at (202) 268-7281.

SUPPLEMENTARY INFORMATION: On November 26, 2025, the Postal Service published a notice of proposed rulemaking (90 FR 54247-54248) to change the claims filing date for insured mail. The Postal Service did not receive any formal comments.

The Postal Service is re-establishing the “No Sooner Than” filing date of 15 days for filing insured mail claims to re-align the filing thresholds with other mail service and bulk claims.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

600 Basic Standards for All Mailing Services

* * * * *

609 Filing Indemnity Claims for Loss or Damage

1.0 General Filing Instructions

* * * * *

1.4 When To File

File claims as follows:

* * * * *

WHEN TO FILE (FROM MAILING DATE)

No Sooner Than No Later Than

MAIL TYPE OR SERVICE

* * * * *

[Revise the “No Sooner Than” timeframe for “Insured Mail” line item to read as follows:]

Insured Mail (including Priority Mail under 503.4.2) 15 days

* * * * *

[Delete the footnote at the bottom of the table in 1.4 in its entirety.]

* * * * *

Daria Valan,
Attorney, Ethics and Legal Compliance.

[FR Doc. 2025-24094 Filed 12-30-25; 8:45 am]

BILLING CODE 7710-12-P